DEPARTMENT OF COMMERCE

International Trade Administration

[{A-570-898}]

Chlorinated Isocyanurates from the People's Republic of China, Notice of Intent to Partially Rescind Administrative Review

AGENCY: Import Administration, International Trade Administration, U.S. Department of Commerce.

SUMMARY: Pursuant to 19 CFR 351.213(b)(2), Zhucheng Taisheng Chemcial Co., Ltd. (“Zhucheng Taisheng”), submitted a timely request for an administrative review of the antidumping duty order on chlorinated isocyanurates from the People's Republic of China (“PRC”) purporting to be a producer and exporter of subject merchandise. We initiated this review on July 29, 2009. See Initiation of Antidumping and Countervailing Duty Administrative Reviews and Request for Revocation in Part, 74 FR 37690 (July 29, 2009) (“Initiation Notice”). In a letter dated August 24, 2009, Zhucheng Taisheng explained that, in the process of preparing the section A questionnaire response for this review, it discovered that the actual producer and exporter of the subject merchandise was Zhucheng Taisheng Angmu Chemical Co., Ltd. (“Zhucheng Taisheng Angmu”), with whom Zhucheng Taisheng claims to be affiliated.¹ Pursuant to 19 CFR 351.213(b)(2), only a producer or an exporter of the subject merchandise may request an administrative review. Because Zhucheng Taisheng is not an exporter or producer of subject merchandise, we intend to rescind the administrative review for Zhucheng Taisheng.

¹ See Letter from Zhucheng Taisheng, “Chlorinated Isocyanurates from China; Inquiry Regarding Status of Administrative Review” (August 24, 2009) (“Inquiry Regarding Status of Administrative Review”).

FOR FURTHER INFORMATION CONTACT: John Hollwitz, AD/CVD Enforcement, Group III, NME Office 8, Import Administration, U.S. Department of Commerce, 14th Street and Constitution Avenue, NW, Washington, DC 20230; telephone (202) 482-2336.

SUPPLEMENTARY INFORMATION:

Background

On June 1, 2009, the Department of Commerce (“the Department”) published a notice of opportunity to request an administrative review of the antidumping duty order on chlorinated isocyanurates.² On June 29, 2009, Zhucheng Taisheng requested a review, claiming to be a producer and exporter of merchandise covered by the order. On July 29, 2009, we initiated an administrative review of the antidumping order on chlorinated isocyanurates. See Initiation Notice. In its August 24, 2009, letter, Zhucheng Taisheng stated that while completing its response to section A of the Department's questionnaire, it discovered that the producer and exporter of the subject merchandise was actually Zhucheng Taisheng Angmu. While Zhucheng Taisheng claims that the two companies are affiliated, Zhucheng Taisheng acknowledged that it is neither a producer nor an exporter of the subject merchandise. Accordingly, on August 24, 2009, Zhucheng Taisheng requested a confirmation from the Department as to whether Zhucheng Taisheng's administrative review can continue.

² See Antidumping or Countervailing Duty Order, Finding, or Suspended Investigation; Opportunity To Request Administrative Review, 74 FR 26202 (June 1, 2009).

Rescission of Antidumping Duty Administrative Review

The Department's regulations at 19 CFR 351.213(b)(2) state that an exporter or producer covered by an antidumping order may request that the Department conduct an administrative review of only that party during the anniversary month of the publication of an antidumping order. As Zhucheng Taisheng was neither a producer nor an exporter of the subject merchandise during the period of review, Zhucheng Taisheng is not entitled to request an administrative review pursuant to 19 CFR 351.213(b)(2).

Because Zhucheng Taisheng did not have standing to request an administrative review, the Department has determined that it initiated the review with respect to Zhucheng Taisheng in error. Therefore, the Department intends to rescind the administrative review with respect to Zhucheng Taisheng, covering the period of June 1, 2008 through May 31, 2009. This administrative review will continue with respect to Hebei Jiheng Chemical Company, Ltd.

Public Comment

Interested parties are invited to comment on the Department's intent to rescind the administrative review with respect to Zhucheng Taisheng, and may submit case briefs and/or written comments within 10 days of the publication of this notice. See 19 CFR 351.309(c). Interested parties may file rebuttal briefs and rebuttals to written comments, limited to issues raised in such briefs or comments, no later than five days after the date on which the case briefs are due. See 19 CFR 351.309(d). Interested parties may request a hearing within 10 days of the publication of this notice. See 19 CFR 351.310. Interested parties will be notified by the Department of the location and time of any hearing, if one is requested.

This determination and notice are issued and published in accordance with section 777(i)(1) of the Tariff Act of 1930, as amended, and 19 CFR 351.213(d)(4).

Dated: September 30, 2009.
John M. Andersen,
Acting Deputy Assistant Secretary for Antidumping and Countervailing Duty Operations.

[FR Doc. E9-24223 Filed 10-6-09; 8:45 am]

BILLING CODE 3510-DS-S